DEPARTMENT OF THE INTERIOR

Bureau of Land Management

[LLWYD01000-2009-LL13100000-NB0000-LXSI016K0000]

Notice of Rescheduled Meetings of the Pinedale Anticline Working Group

AGENCY: Bureau of Land Management, Interior.

ACTION: Notice of public meeting.

SUMMARY: In accordance with the Federal Land Policy and Management Act (1976) and the Federal Advisory Committee Act (1972), the U.S. Department of the Interior, Bureau of Land Management (BLM) Pinedale Anticline Working Group (PAWG) will conduct meetings in Pinedale, Wyoming. These meetings are open to the public.

DATES: The August 26, 2010, September 23, 2010, and October 28, 2010 meetings have been cancelled. The PAWG will meet on the following dates: October 1, 2010, November 4, 2010, February 3, 2011, and May 6, 2011, beginning at 10 a.m. MST.

ADDRESSES: BLM Pinedale Field Office, 1625 West Pine Street, Pinedale, WY.

FOR FURTHER INFORMATION CONTACT: Shelley Gregory, Bureau of Land Management, Pinedale Field Office, 1625 West Pine Street., P.O. Box 768, Pinedale, WY 82941; 307-367-5328; shelley_gregory@blm.gov.

SUPPLEMENTARY INFORMATION: The PAWG was established by the Environmental Impact Statement (EIS) Record of Decision (ROD) for the Pinedale Anticline Project Area (PAPA) on July 27, 2000 and carried forward with the release of the ROD for the PAPA Supplemental Environmental Impact Statement (SEIS) on September 12, 2008.

The PAWG is a Federal Advisory Committee Act (FACA) group which develops recommendations and provides advice to the BLM on mitigation, monitoring, and adaptive management issues as oil and gas development in the PAPA proceeds.

Additional information about the PAWG can be found at: www.blm.gov/wy/st/en/field_offices/pinedale/pawg.html.

Dated: August 27, 2010.
Donald A. Simpson,
State Director .

[FR Doc. 2010-21912 Filed 9-1-10; 8:45 am]

BILLING CODE 4310-22-P